ENVIRONMENTAL PROTECTION AGENCY

[OAR-2002-0090; FRL-7432-9]

Agency Information Collection Activities; Submission of EPA ICR No. 1718.04 (OMB No. 2060-0308) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Recordkeeping and Reporting Requirements for the Fuel Quality Regulations for Diesel Fuel Sold in 2001 and Later Years (OMB Control No. 2060-0308, EPA ICR No. 1718.04). The ICR, which is abstracted below, describes the nature of the information collection and its estimated burden and cost.

DATES: Additional comments may be submitted on or before January 29, 2003.

ADDRESSES: Follow the detailed instructions in the SUPPLEMENTARY INFORMATION section.

FOR FURTHER INFORMATION CONTACT: Anne Pastorkovich, Transportation and Regional Programs Division (Mail Code 6406J), telephone number: (202) 564-8987, Environmental Protection Agency, 1200 Pennsylvania Ave., NW., Washington, DC 20460; telephone number: (202) 565-2085; fax number: (202) 565-2085; e-mail address: pastorkovich.anne-marie@epa.gov.

SUPPLEMENTARY INFORMATION: EPA has submitted the following ICR to OMB for review and approval according to the procedures prescribed in 5 CFR 1320.12. On May 23, 2001 (66 FR 28461), EPA sought comments on this ICR pursuant to 5 CFR 1320.8(d). EPA received no comments.

EPA has established a public docket for this ICR under Docket ID No. OAR-2002-0090, which is available for public viewing at the Air and Radiation Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to www.epa.gov/oar/docket.html, or by mail to: EPA Docket Center, Environmental Protection Agency, Mailcode: 6102T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Recordkeeping and Reporting Requirements for the Fuel Quality Regulations for Diesel Fuel Sold in 2001 and Later Years (Final Rule) (OMB Control No. 2060-0308, EPA ICR Number 1718.04). This is a request for a revised collection. Under the OMB regulations, the Agency may continue to conduct or sponsor the collection of information while this submission is pending at OMB.

Abstract: The pollution emitted by diesel engines contributes greatly to our nation's continuing air quality problems. New emissions standards for these engines and vehicles will apply starting with model year 2007. Since the new technology requires low sulfur diesel fuel containing 15 parts per million (ppm) sulfur or less, the regulations at 40 CFR part 80, subpart I, require the availability of 15 ppm by no later than 2006, with all motor vehicle diesel fuel required to meet the 15 ppm standard by 2010. The recordkeeping and reporting requirements associated with this program are necessary to ensure its environmental benefits. They are designed to be consistent with existing requirements. Many reporting items represent one-time burdens, including applications for exemptions or specific flexibilities (including small refiner status). In addition, annual reporting requirements associated with this program cease after 2010, when all motor vehicle diesel fuel must meet the 15 ppm standard.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 166 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Domestic and foreign refiners, importers, and fuel additives manufacturers.

Estimated Number of Respondents: 450

Frequency of Response: On occasion/annual

Estimated Total Annual Hour Burden: 72,648 hours.

Estimated Total Annual Cost: $9,208,880, includes $4,800,000 annualized capital or O&M costs.

Changes in the Estimates: This rule increases the estimate by 72,648 hours over the burden currently identified in the OMB Inventory of Approved ICR Burdens for this program.

Dated: December 18, 2002.
Oscar Morales, Director,
Collection Strategies Division.

[FR Doc. 02-32900 Filed 12-27-02; 8:45 am]

BILLING CODE 6560-50-P